DEPARTMENT OF JUSTICE

Notice of Lodging of Consent Decree Under the Comprehensive Environmental Response, Compensation, and Liability Act

Notice is hereby given that on December 18, 2009, a proposed Consent Decree in United States v. Newell Holdings Delaware, Inc. and Rock Springs Enterprises, Inc., Civil Action No. 5:07-cv-164, was lodged with the United States District Court for the Northern District of West Virginia. In a civil action filed on December 18, 2007, under Section 107(a) of the Comprehensive Environmental Response, Compensation and Liability Act (“CERCLA”), 42 U.S.C. 9607(a), the United States sought recovery of response costs from Newell Holdings Delaware, Inc. (“Newell Holdings”) and Rock Springs Enterprises, Inc. (“Rock Springs”) in connection with the Eighth and Plutus Streets Pottery Site in Chester, West Virginia (“the Site”). The proposed Consent Decree, lodged on December 18, 2009, resolves the liability of the defendant Newell Holdings for response costs incurred and to be incurred by the United States in connection with the Site, and requires Newell Holdings to pay $800,000 in response costs in accordance with the terms of the Decree. Defendant Rock Springs is not a party to the Consent Decree.

The Department of Justice will receive comments relating to the proposed Consent Decree for a period of thirty (30) days from the date of this publication. Please address comments to the Assistant Attorney General, Environment and Natural Resources Division, by e-mail to pubcomment-ees.enrd@usdoj.gov or regular mail to P.O. Box 7611, U.S. Department of Justice, Washington, D.C. 20044-7611, and refer to United States v. Newell Holdings Delaware, Inc. and Rock Springs Enterprises, Inc., D.J. Ref. 90-11-3-09297.

The Consent Decree may be examined at the Office of the United States Attorney for the Northern District of West Virginia, U.S. Courthouse and Federal building, 1125 Chapline Street, Wheeling, WV 26003 and at U.S. EPA Region III, 1650 Arch Street, Philadelphia, PA 19103. During the public comment period, the Consent Decree may also be examined on the following Department of Justice Web site, http://www.usdoj.gov/enrd/consent_decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. When requesting a copy from the Consent Decree Library, please enclose a check in the amount of $6.00 (25 cents per page reproduction cost) payable to the U.S. Treasury or, if by e-mail or fax, forward a check in that amount to the Consent Decree Library at the address above.

Maureen Katz,
Assistant Chief, Environmental Enforcement Section, Environment and Natural Resources Division.

[FR Doc. E9-30581 Filed 12-23-09; 8:45 am]

BILLING CODE 4410-15-P